DEPARTMENT OF AGRICULTURE

Animal and Plant Health Inspection Service

[Docket No. APHIS-2020-0100]

Notice of Proposed Revision to Requirements for the Importation of Fresh Melon Fruit From Japan Into the United States

AGENCY: Animal and Plant Health Inspection Service, USDA.

ACTION: Notice of availability.

SUMMARY: We are advising the public that we have prepared a pest risk analysis that evaluates the risks associated with the importation of fresh melon fruit with stems from Japan into the United States. Based on the analysis, we are proposing to revise the existing conditions for importation of melons from Japan, which do not currently allow the importation of melons with stems, and which do not authorize importation to the continental United States or most territories. We are making the pest risk analysis available to the public for review and comment.

DATES: We will consider all comments that we receive on or before July 20, 2021.

ADDRESSES: You may submit comments by either of the following methods:

• Federal eRulemaking Portal: Go to www.regulations.gov. Enter APHIS-2020-0100 in the Search field. Select the Documents tab, then select the Comment button in the list of documents.

• Postal Mail/Commercial Delivery: Send your comment to Docket No. APHIS-2020-0100, Regulatory Analysis and Development, PPD, APHIS, Station 3A-03.8, 4700 River Road, Unit 118, Riverdale, MD 20737-1238.

Supporting documents and any comments we receive on this docket may be viewed at www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Claudia Ferguson, Senior Regulatory Policy Specialist, Regulatory Coordination and Compliance, Imports, Regulations, and Manuals PPQ, APHIS, 4700 River Road, Unit 133, Riverdale, MD 20737-1231; (301) 851-2352.

SUPPLEMENTARY INFORMATION:

Background

Under the regulations in “Subpart L-Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 of the regulations provides requirements for authorizing the importation of fruits and vegetables into the United States and revises existing requirements for the importation of fruits and vegetables. Paragraph (c) of that section provides that the name and origin of all fruits and vegetables authorized importation into the United States, as well as the requirements for their importation, be listed on the internet in APHIS' Fruits and Vegetables Import Requirements database, or FAVIR (https://epermits.aphis.usda.gov/manual). It also provides that, if the Administrator of APHIS determines that any of the phytosanitary measures required for the importation of a particular fruit or vegetable are no longer necessary to reasonably mitigate the plant pest risk posed by the fruit or vegetable, APHIS will publish a notice in the Federal Register making its pest risk documentation and determination available for public comment.

Currently, fresh melon fruit (Cucumis melo L.) from Japan is listed in FAVIR as fruit authorized importation into Hawaii, and fresh cantaloupe fruit (Cucumis melo ssp. melo var. cantalupensis) and honeydew melon (Cucumis melo ssp. melo var. inodorus) are authorized importation into Guam and the Northern Mariana Islands from areas of Japan other than Amami, Bonin, Ryukyu, Tokara, and Volcano Islands. To be eligible for importation under the current requirements, the melon fruit must be certified as being hothouse grown on or north of Honshu Island and is subject to inspection at the U.S. port of entry.

APHIS received a request from the national plant protection organization (NPPO) of Japan, Ministry of Agriculture, Forestry and Fisheries, to revise the current import requirements and allow the importation of fresh melon fruits with stems into the entire United States. If we approve the request, the mitigation measures developed would supersede current importation requirements for fresh cantaloupe, honeydew melon, and melon from Japan.

As part of our evaluation of Japan's request, we have prepared a pest risk assessment (PRA) to identify pests of quarantine significance that could follow the pathway of importation of fresh melon fruit with stems into the United States from Japan. The PRA identified one quarantine pest—Cucumber green mottle mosaic virus (CGMMV)—as the only quarantine pest that could reasonably be expected to follow the pathway, and that the likelihood of introduction into the United States via fresh melon fruit with stems from Japan is low.

Based on the PRA, a risk management document (RMD) was prepared to identify phytosanitary measures that could be applied to the fresh melon fruit with stems from Japan to mitigate the pest risk.

We have concluded that fresh melon fruit with stems can be safely imported from Japan into the United States using one or more of the five designated phytosanitary measures listed in § 319.56-4(b). These measures are summarized below and would also be listed in APHIS' Fruits and Vegetables Import Requirements database, available at https://epermits.aphis.usda.gov/manual:

• Fresh melon fruit with stems from Japan must be imported as commercial consignments only.

• Each consignment must be inspected and accompanied by a phytosanitary certificate issued by the Japanese NPPO stating that the melon fruit with stems are free of CGMMV.

• Each consignment is subject to inspection upon arrival in the United States.

Each of the pest risk mitigation measures that would be required, along with evidence of their efficacy in removing pests of concern from the pathway, are described in detail in the RMD.

Therefore, in accordance with § 319.56-4(c)(3), we are announcing the availability of our PRA and RMD for public review and comment. Those documents, as well as a description of the economic considerations associated with the importation of fresh melon fruit with stems under the revised conditions, may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding the import status of fresh melon fruit with stems from Japan in a subsequent notice. If the overall conclusions of our analysis and the Administrator's determination of risk remain unchanged following our consideration of the comments, then we will authorize the importation of fresh melon fruit with stems from Japan into the entire United States subject to the revised requirements specified in this notice.

Authority: 7 U.S.C. 1633, 7701-7772, and 7781-7786; 21 U.S.C. 136 and 136a; 7 CFR 2.22, 2.80, and 371.3.

Done in Washington, DC, this 17th day of May 2021.
Mark Davidson,
Administrator, Animal and Plant Health Inspection Service.

[FR Doc. 2021-10706 Filed 5-20-21; 8:45 am]

BILLING CODE 3410-34-P